DEPARTMENT OF DEFENSE

Office of the Secretary

32 CFR Part 3

[Docket ID: DoD-2024-OS-0099]

RIN 0790-AK98

Transactions Other Than Contracts, Grants, or Cooperative Agreements for Prototype Projects; Correction

AGENCY: Office of the Under Secretary of Defense for Acquisition and Sustainment (OUSD(A&S)), Department of Defense (DoD).

ACTION: Proposed rule; correction.

SUMMARY: On September 4, 2024, the DoD published a proposed rule titled Transactions Other Than Contracts, Grants, or Cooperative Agreements for Prototype Projects. Subsequent to publication of the proposed rule, DoD discovered that the docket identifier in the published proposed rule was incorrect. All other information in the September 4, 2024, remains the same.

DATES: This correction is effective on September 20, 2024.

FOR FURTHER INFORMATION CONTACT: Patricia Toppings, 571-372-0485.

SUPPLEMENTARY INFORMATION:

Correction

In proposed rule FR Doc. 2024-19457, published in the Federal Register on September 4, 2024 (89 FR 71865) make the following correction:

On page 71865, in the first column, in the document heading, the docket number “Docket ID: DoD-2021-OS-0071” is corrected to read “Docket ID: DoD-2024-OS-0099”.

Dated: September 17, 2024.
Aaron T. Siegel,
Alternate OSD Federal Register Liaison Officer, Department of Defense.

[FR Doc. 2024-21551 Filed 9-19-24; 8:45 am]

BILLING CODE 6001-FR-P